DEPARTMENT OF ENERGY

Energy Information Administration

Agency Information Collection Activities: Policy for Revisions to the Weekly Natural Gas Storage Report; Comment Request

AGENCY: Energy Information Administration (EIA), Department of Energy (DOE).

ACTION: Agency information collection activities: policy for revisions to the Weekly Natural Gas Storage Report; comment request.

SUMMARY: The EIA is soliciting comments on the revision policy for the Weekly Natural Gas Storage Report (WNGSR). The WNGSR provides weekly estimates of working gas volumes held in underground storage facilities at the national and regional levels. The WNGSR is based on information collected by EIA on Form EIA-912, “Weekly Underground Gas Storage Report.”

DATES: Comments must be filed by February 7, 2005. If you anticipate difficulty in submitting comments within that period, contact the person listed below as soon as possible.

ADDRESSES: Send comments to William Trapmann. To ensure receipt of the comments by the due date, submission by fax (202) 586-4220 or e-mail (William.Trapmann@eia.doe.gov) is recommended. The mailing address is Energy Information Administration, EI-44, Forrestal Building, U.S. Department of Energy, Washington, DC 20585. Alternatively, Mr. Trapmann may be contacted by telephone at (202) 586-6408.

FOR FURTHER INFORMATION CONTACT: The WNGSR is available on EIA's Internet site at http://tonto.eia.doe.gov/oog/info/ngs/ngs.html. The survey Form EIA-912 and instructions used to collect information for the WNGSR are available at http://www.eia.doe.gov/oil_gas/natural_gas/survey_forms/nat_survey_forms.html. Requests for additional information should be directed to Mr. Trapmann at the address listed above.

SUPPLEMENTARY INFORMATION:

I. Background

II. Current Actions

III. Request for Comments

I. Background

The Federal Energy Administration Act of 1974 (Public Law 93-275, 15 U.S.C. 761 et seq.) and the DOE Organization Act (Public Law 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA provides the public and other Federal agencies with opportunities to comment on collections of energy information conducted by EIA. As appropriate, EIA also requests comments on important issues relevant to its dissemination of energy information. Comments received help the EIA when preparing information collections and information products necessary to EIA's mission.

The Weekly Natural Gas Storage Report (WNGSR) which has been issued by EIA since May 9, 2002, provides weekly estimates of working gas volumes held in underground storage facilities at the national and regional levels. WNGSR users include policymakers, commodity market analysts, and industry experts. EIA uses the data to prepare analytical products assessing storage operations and the impact on supplies available, and to analyze relationships between demand, heating-degree-days, and inventory levels.

EIA is requesting comments because of a possible need to modify the policy on revisions to data disseminated in the WNGSR. The policy was established in 2002 on the basis of public comments in response to a Federal Register notice. After EIA released the WNGSR on November 24, 2004, EIA received revised survey data. Adhering to its established policy, EIA disseminated revised underground gas storage statistics reflecting the revised survey data in the next WNGSR released on December 2, 2004.

II. Current Actions

The WNGSR is based on information collected on Form EIA-912. Form EIA-912 respondents provide estimates for working gas in storage as of 9 a.m. Friday each week. The deadline for submitting reports to the EIA is 5 p.m. eastern time the following Monday, except when Monday is a Federal holiday. In that case, forms should be submitted by 5 p.m. on Tuesday. The WNGSR is released on Thursday between 10:30 and 10:40 a.m. eastern time on EIA's Web site, except when Thursday is a Federal holiday. Notification of changes in this general schedule is maintained on the EIA Web site at http://tonto.eia.doe.gov/oog/info/ngs/schedule.html.

A Form EIA-912 respondent is instructed to submit revisions to previously reported data if the revisions are greater than 500 million cubic feet. As with any EIA information product based on survey data, the WNGSR data may undergo revision(s) based on a number of reporting factors including:

(1) As more accurate information becomes available to a respondent after the Form EIA-912 is filed, a respondent may need to file new data.

(2) After submitting Form EIA-912 and prior to the next weekly submission, a respondent may determine that information submitted was incorrect (e.g., numbers were transposed, numbers were entered in the wrong item on the form, or other reporting errors).

(3) A respondent may submit Form EIA-912 too late for inclusion in the current week estimates for the WNGSR.

(4) A respondent may report a reclassification of base and working gas.

(5) A respondent may report a change in field operating status.

In addition to the reporting factors cited above, WNGSR data may be revised in response to EIA actions such as a new estimation methodology or sample used in the estimation process. Such revisions differ from reporting issues in that their occurrence is known by EIA in advance and EIA can plan for the resulting implementation. Because of that, EIA schedules dissemination of those revisions and provides users with early notification of the forthcoming WNGSR that will include the revisions.

In 2002 EIA adopted a policy for releasing revisions to data disseminated in the WNGSR. The policy was developed following a public comment period and released in the Federal Register on November 12, 2002 (67 FR 68581). Under that policy, revisions are not disseminated on an unscheduled basis. Rather, revisions are disseminated in the next release of the WNGSR when the effect of reported changes is at least 7 billion cubic feet (Bcf) at either a regional or national level. If a revision is made, changes to all regions are included.

Data for the previous week have been revised in 10 of the 136 issues released between May 9, 2002 and December 9, 2004. At the U.S. level, these revisions ranged (in absolute value) from 7 to 41 Bcf. The sizes and reasons are illustrated in the table below. The two revisions greater than 15 Bcf attributable to data changes occurred for estimates initially released on July 3, 2002 (26 Bcf) and November 24, 2004 (32 Bcf).

Revision size (absolute value) | Reasons for revisions: Survey data change | Reasons for revisions: Methodology or sample change | Reasons for revisions: All reasons
7-14 Bcf | 5 | 1 | 6
15 or more Bcf | 2 | 2 | 4

With respect to the dissemination of revisions to WNGSR data, EIA is reconsidering its policy. Important issues to consider include: the size of a revision justifying a revised WNGSR release, the problem of equal and adequate notification of an upcoming revision, and the timing of revisions in light of government and market hours of operation. The current policy and two examples of alternative policies are described below.

Current Policy (No Unscheduled Release of Revisions). Revisions are disseminated in the next release of the WNGSR when the effect of changes from any cause is at least 7 billion cubic feet (Bcf) at either a regional or national level. If a revision is made, changes to all regions are included. Revisions are not disseminated on an unscheduled basis.

Alternative 1 (Fixed Revision Timing). When the cumulative effect of all revised data for the most recent report period is at least 15 billion cubic feet (BCF) at either a regional or national level, a revised WNGSR would be issued prior to the customary WNGSR release schedule (i.e., generally Thursday at 10:30 a.m.). If a revision is necessary, it would be released in a revised WNGSR at 10:30 a.m. on the first Federal government workday of the following week. In most instances the timing would be 10:30 a.m. Monday unless there is a Monday holiday. In that case the revision would be released on Tuesday. No notification of a coming revision would be provided. If the issues underlying the revision could not be resolved and systems changes could not be implemented before the fixed release date, the revision would be released during the next regularly scheduled WNGSR release (usually Thursday morning). Revisions from 7 to 14 Bcf as well as a revision greater than 7 Bcf resulting from a new estimation methodology or sample used in the estimation process would be issued in the next regularly scheduled (usually Thursday) release of the WNGSR. This alternative provides a date and time for a mid-week release of a revision greater than 15 Bcf without relying on any notification to users of the estimates.

Alternative 2 (Variable Revision Timing). When the cumulative effect of revised data for the most recent report period is at least 15 billion cubic feet (BCF) at either a regional or national level, a revised WNGSR would be issued two hours after EIA issues a notification of the planned release of the revised WNGSR. However, EIA would not issue a revised WNGSR if the next scheduled release is less than 24 hours later. Also, revisions from 7 to 14 Bcf as well as a revision of any magnitude greater than 7 Bcf resulting from a new estimation methodology or sample used in the estimation process would be issued in the next release of the WNGSR.

For alternative 2, EIA would notify the public of the planned release by announcing it on its Web site and sending e-mail notifications to parties registered on EIA's WNGSR list serve. (Interested parties may sign up for the WNGSR list serve without charge through the EIA Web site at http://www.eia.doe.gov/listserv_signup.html.) EIA proposes that the revision be released two hours after the announcement is posted and e-mail notices are issued irrespective of whether any specific markets are in operation at the time of the revision release. EIA would post a notification of an upcoming revision only when it has resolved all implementation issues and is prepared to issue the revised WNGSR two hours later. Also, revisions from 7 to 14 Bcf as well as a revision of any magnitude greater than 7 Bcf resulting from a new estimation methodology or sample used in the estimation process would be issued in the next release of the WNGSR.

III. Request for Comments

The public should comment on the alternatives discussed in item II as well as the questions below. Comments may also address other issues and alternatives related to changes in the WNGSR revision policy.

General Issues:

A. What policy do you prefer for release of revised WNGSR data and why? What are the features of each policy that are attractive and unattractive?

B. What is the threshold, if any, at which a revised WNGSR should be issued outside a regular schedule? Is a threshold change of 15 Bcf appropriate to require such an issuance?

C. Is a fixed revision date and time a useful alternative to an approach requiring a notification process for EIA customers? What particular dates and/or times are most appropriate?

D. If a notification approach is used, is a posting on EIA's web site and e-mail notification adequate and equitable? How much time should pass between a notification of a revised WNGSR and its release?

E. Should the release of a revised WNGSR be restricted to specific business hours or days because of the operating hours of various trading markets? For example, if a revised WNGSR is approved late in the work day, should EIA withhold issuing it until specific major energy markets are open?

Comments submitted in response to this notice will be considered during development of EIA's policy for revisions of the WNGSR. The comments will also become a matter of public record.

After EIA has completed development of the WNGSR revision policy, a Federal Register notice will be issued announcing the policy.

Statutory Authority: Section 52 of the Federal Energy Administration Act (Pub. L. No. 93-275, 15 U.S.C. 790a).

Issued in Washington, DC, January 3, 2005.
Jay H. Casselberry,
Agency Clearance Officer, Energy Information Administration.

[FR Doc. 05-333 Filed 1-6-05; 8:45 am]

BILLING CODE 6450-01-P